ENVIRONMENTAL PROTECTION AGENCY

[FRL-7626-3]

National Advisory Council for Environmental Policy and Technology

AGENCY: Environmental Protection Agency (EPA).

ACTION: Notice of meeting.

SUMMARY: Under the Federal Advisory Committee Act, Pub. L. 92-463, EPA gives notice of a meeting of the National Advisory Council for Environmental Policy and Technology (NACEPT). NACEPT provides advice and recommendations to the Administrator of EPA on a broad range of environmental policy, technology, and management issues. NACEPT consists of a representative cross-section of EPA's partners and principal constituents who provide advice and recommendations on policy issues and serve as a sounding board for new strategies that the Agency is developing. The Council is a proactive, strategic panel of experts that identifies emerging challenges facing EPA and responds to specific charges requested by the Administrator and the program office managers. The purpose of the meeting is to develop the NACEPT Council's agenda for FY04 to support the Administrator's priorities. In addition, NACEPT will report on the work of its subcommittees.

DATES: NACEPT will hold a two-day public meeting on Thursday, March 11, from 8:30 a.m. to 5 p.m. and Friday, March 12, from 8:30 a.m. to 3 p.m.

ADDRESSES: The meeting will be held at the Grant Hyatt Washington, 1000 H Street, NW., Washington, DC. The meeting is open to the public, with limited seating on a first-come, first-served basis.

FOR FURTHER INFORMATION CONTACT: Sonia Altieri, Designated Federal Officer, altieri.sonia@epa.gov, 202-233-0061, U.S. EPA, Office of Cooperative Environmental Management (1601E), 1200 Pennsylvania Avenue, NW., Washington, DC 20460.

SUPPLEMENTARY INFORMATION: Requests to make oral comments or provide written comments to the Council should be sent to Sonia Altieri, Designated Federal Officer using the contact information below by March 5, 2004. The public is welcome to attend all portions of the meeting.

Meeting Access: Individuals requiring special accommodation at this meeting, including wheelchair access, should contact Sonia Altieri at least five business days prior to the meeting so that appropriate arrangements can be made.

Dated: February 10, 2004.
Sonia Altieri,
Designated Federal Officer.

[FR Doc. 04-3933 Filed 2-23-04; 8:45 am]

BILLING CODE 6560-50-M